DEPARTMENT OF THE TREASURY

Office of Foreign Assets Control

[Case IDs DPRK3-12584, DPRK3-12585]

Notice of OFAC Sanctions Actions

AGENCY: Office of Foreign Assets Control, Department of the Treasury.

ACTION: Notice.

SUMMARY: The U.S. Department of the Treasury's Office of Foreign Assets Control (OFAC) is publishing the names of entities whose property and interests in property have been unblocked and removed from the list of Specially Designated Nationals and Blocked Persons.

DATES: See SUPPLEMENTARY INFORMATION section for applicable date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On March 2, 2020, OFAC determined that the property and interests in property subject to U.S. jurisdiction of the following entities are unblocked, and removed them from the SDN List under the relevant sanctions authority listed below.

Entities

1. AO NNK-PRIMORNEFTEPRODUCT (a.k.a. IPC-PRIMORNEFTEPRODUCT JSC; a.k.a. NNK-PRIMORNEFTEPRODUKT, AO; a.k.a. OAO PRIMORNEFTEPRODUCT), 55 Ul. Fontannaya, Vladivostok, Primorskiy Krai 690091, Russia; Secondary sanctions risk: North Korea Sanctions Regulations, sections 510.201 and 510.210 [DPRK3] (Linked To: INDEPENDENT PETROLEUM COMPANY).

2. INDEPENDENT PETROLEUM COMPANY (a.k.a. AKTSIONERNOE OBSHCHESTVO ‘NEZAVISIMAYA NEFTEGAZOVAYA KOMPANIYA'; a.k.a. “NNK, AO”), 1 Arbatskaya Square, Moscow 119019, Russia; Secondary sanctions risk: North Korea Sanctions Regulations, sections 510.201 and 510.210 [DPRK3].

Dated: March 2, 2020.
Andrea M. Gacki,
Director, Office of Foreign Assets Control.

[FR Doc. 2020-04529 Filed 3-4-20; 8:45 am]

BILLING CODE 4810-AL-P